DEPARTMENT OF ENERGY

Federal Energy Regulatory Commission

Combined Notice of Filings #1

Take notice that the Commission received the following electric rate filings:

Docket Numbers: ER10-1782-001.

Applicants: Tampa Electric Company.

Description: Annual Compliance Report Regarding Operational Penalties of Tampa Electric Company.

Filed Date: 03/18/2011.

Accession Number: 20110318-5072.

Comment Date: 5 p.m. Eastern Time on Friday, April 08, 2011.

Docket Numbers: ER10-2391-001.

Applicants: Vermont Yankee Nuclear Power Corporation.

Description: Amendment to Triennial Market Power Analysis Filing in Compliance with Order No. 697 of Vermont Yankee Nuclear Power Corporation.

Filed Date: 03/18/2011.

Accession Number: 20110318-5033.

Comment Date: 5 p.m. Eastern Time on Friday, April 08, 2011.

Docket Numbers: ER11-2897-001.

Applicants: PJM Interconnection, L.L.C.

Description: PJM Interconnection, L.L.C. submits tariff filing per 35.17(b): Errata to Docket No ER11-2897-000 Serv Agmt No. 2301 to correct technical issues to be effective 9/17/2010.

Filed Date: 03/18/2011.

Accession Number: 20110318-5041.

Comment Date: 5 p.m. Eastern Time on Friday, April 08, 2011.

Docket Numbers: ER11-3139-000.

Applicants: Bangor Hydro Electric Company, ISO New England Inc.

Description: Bangor Hydro Electric Company submits tariff filing per 35.13(a)(2)(iii: Schedule 21—BHE Filing to be effective 6/1/2011.

Filed Date: 03/18/2011.

Accession Number: 20110318-5001.

Comment Date: 5 p.m. Eastern Time on Friday, April 08, 2011.

Docket Numbers: ER11-3141-000.

Applicants: Viridian Energy NY LLC.

Description: Viridian Energy NY LLC submits tariff filing per 35.12: Viridian Energy NY LLC Market Based Rate Tariff to be effective 3/18/2011.

Filed Date: 03/18/2011.

Accession Number: 20110318-5018.

Comment Date: 5 p.m. Eastern Time on Friday, April 08, 2011.

Docket Numbers: ER11-3142-000.

Applicants: New England Wire Technologies, Corp.

Description: New England Wire Technologies, Corp. submits tariff filing per 35.1: NEWT FERC Electric Baseline Tariff to be effective 3/18/2011.

Filed Date: 03/18/2011.

Accession Number: 20110318-5044.

Comment Date: 5 p.m. Eastern Time on Friday, April 08, 2011.

Docket Numbers: ER11-3143-000.

Applicants: Southern California Edison Company.

Description: Southern California Edison Company submits tariff filing per 35.13(a)(2)(iii: SGIA WDT SERV AG PHOTON SOLAR DOMINGUEZ PV 1 PROJECT to be effective 5/18/2011.

Filed Date: 03/18/2011.

Accession Number: 20110318-5057.

Comment Date: 5 p.m. Eastern Time on Friday, April 08, 2011.

Docket Numbers: ER11-3144-000.

Applicants: Southern California Edison Company.

Description: Southern California Edison Company submits tariff filing per 35.13(a)(2)(iii: SGIA WDT SERV AG PHOTON SOLAR MID COUNTIES PV 5 PROJECT to be effective 5/18/2011.

Filed Date: 03/18/2011.

Accession Number: 20110318-5058.

Comment Date: 5 p.m. Eastern Time on Friday, April 08, 2011.

Docket Numbers: ER11-3145-000.

Applicants: Southern California Edison Company.

Description: Southern California Edison Company submits tariff filing per 35.13(a)(2)(iii: SGIA WDT SERV AG PHOTON SOLAR INDUSTRY PV 1 PROJECT to be effective 5/18/2011.

Filed Date: 03/18/2011.

Accession Number: 20110318-5059.

Comment Date: 5 p.m. Eastern Time on Friday, April 08, 2011.

Docket Numbers: ER11-3146-000.

Applicants: Southern California Edison Company

Description: Southern California Edison Company submits tariff filing per 35.13(a)(2)(iii: SGIA WDT SERV AG PHOTON SOLAR INDUSTRIAL PV 1 PROJECT to be effective 5/18/2011.

Filed Date: 03/18/2011.

Accession Number: 20110318-5062.

Comment Date: 5 p.m. Eastern Time on Friday, April 08, 2011.

Docket Numbers: ER11-3147-000.

Applicants: Midwest Independent Transmission System.

Description: Midwest Independent Transmission System Operator, Inc. submits tariff filing per 35.13(a)(2)(iii: J143 GIA Filing to be effective 3/19/2011.

Filed Date: 03/18/2011.

Accession Number: 20110318-5065.

Comment Date: 5 p.m. Eastern Time on Friday, April 08, 2011.

Docket Numbers: ER11-3148-000.

Applicants: PJM Interconnection, L.L.C.

Description: PJM Interconnection, L.L.C. submits tariff filing per 35.13(a)(2)(iii: WMPA-First Rev. Serv. Agmt. No. 2789 between CleanLight Energy and PSEG (W3-129) to be effective 3/17/2011.

Filed Date: 03/18/2011.

Accession Number: 20110318-5067

Comment Date: 5 p.m. Eastern Time on Friday, April 08, 2011.

Take notice that the Commission received the following PURPA 210(m)(3) filings:

Docket Numbers: QM11-2-000.

Applicants: Pacific Gas and Electric Company, San Diego Gas & Electric Company, Southern California Edison Company.

Description: PURPA 210(m) Application of Pacific Gas and Electric Company, et al.

Filed Date: 03/18/2011.

Accession Number: 20110318-5090.

Comment Date: 5 p.m. Eastern Time on Friday, April 15, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Dated: March 21, 2011.
Nathaniel J. Davis, Sr.,
Deputy Secretary.

[FR Doc. 2011-7288 Filed 3-28-11; 8:45 am]

BILLING CODE 6717-01-P